DEPARTMENT OF COMMERCE

National Oceanic and Atmospheric Administration

50 CFR Part 648

[Docket No. 201209-0332; RTID 0648-XB614]

Fisheries of the Northeastern United States; Atlantic Bluefish Fishery; Quota Transfers From NJ to NY, DE to NC, and NH to RI

AGENCY: National Marine Fisheries Service (NMFS), National Oceanic and Atmospheric Administration (NOAA), Commerce.

ACTION: Notification; quota transfers.

SUMMARY: NMFS announces that the states of New Jersey, Delaware, and New Hampshire are transferring a portion of their 2021 commercial bluefish quota to the states of New York, North Carolina, and Rhode Island, respectively. These quota adjustments are necessary to comply with the Atlantic Bluefish Fishery Management Plan quota transfer provisions. This announcement informs the public of the revised commercial bluefish quotas for New Jersey, New York, Delaware, North Carolina, New Hampshire, and Rhode Island.

DATES: Effective November 30, 2021, through December 31, 2021.

FOR FURTHER INFORMATION CONTACT: Laura Hansen, Fishery Management Specialist, (978) 281-9225.

SUPPLEMENTARY INFORMATION: Regulations governing the Atlantic bluefish fishery are found in 50 CFR 648.160 through 648.167. These regulations require annual specification of a commercial quota that is apportioned among the coastal states from Maine through Florida. The process to set the annual commercial quota and the percent allocated to each state is described in § 648.162 and the final 2021 allocations were published on December 16, 2020 (85 FR 81421).

The final rule implementing Amendment 1 to the Bluefish Fishery Management Plan (FMP) published in the Federal Register on July 26, 2000 (65 FR 45844), and provided a mechanism for transferring bluefish quota from one state to another. Two or more states, under mutual agreement and with the concurrence of the NMFS Greater Atlantic Regional Administrator, can request approval to transfer or combine bluefish commercial quota under § 648.162(e)(1)(i) through (iii). The Regional Administrator must approve any such transfer based on the criteria in § 648.162(e). In evaluating requests to transfer a quota or combine quotas, the Regional Administrator shall consider whether: The transfer or combinations would preclude the overall annual quota from being fully harvested; the transfer addresses an unforeseen variation or contingency in the fishery; and the transfer is consistent with the objectives of the FMP and the Magnuson-Stevens Act.

New Jersey is transferring 30,000 lb (13,608 kg) to New York; Delaware is transferring 30,000 lb (13,608 kg) to North Carolina; and New Hampshire is transferring 11,000 lb (4,990 kg) to Rhode Island through mutual agreement of the states. These transfers were requested to ensure that New York, North Carolina, and Rhode Island would not exceed their 2021 state quota. The revised bluefish quotas for 2021 are: New Jersey, 260,082 lb (117,971 kg); New York, 387,438 lb (175,739 kg); Delaware, 21,958 lb (79,713 kg); North Carolina, 987,377 lb (3,616 kg); New Hampshire, 473 lb (215 kg); and Rhode Island, 264,434 lb (119,945 kg).

Classification

NMFS issues this action pursuant to section 305(d) of the Magnuson-Stevens Act. This action is required by 50 CFR 648.162(e)(1)(i) through (iii), which was issued pursuant to section 304(b), and is exempted from review under Executive Order 12866.

Authority: 16 U.S.C. 1801 et seq.

Dated: November 30, 2021.
Ngagne Jafnar Gueye,
Acting Director, Office of Sustainable Fisheries, National Marine Fisheries Service.

[FR Doc. 2021-26308 Filed 11-30-21; 4:15 pm]

BILLING CODE 3510-22-P